ENVIRONMENTAL PROTECTION AGENCY

40 CFR Part 300

[FRL-7377-2]

National Oil and Hazardous Substances Pollution Contingency Plan; National Priorities List Update

AGENCY: Environmental Protection Agency.

ACTION: Notice of deletion of the Tulalip Landfill Superfund Site from the National Priorities List.

SUMMARY: The U.S. Environmental Protection Agency (EPA), Region 10, announces the deletion of the Tulalip Landfill which is located within the Tulalip Indian Reservation in Snohomish County, Washington, from the National Priorities List (NPL). The NPL is appendix B of 40 CFR part 300 which is the National Oil and Hazardous Substances Pollution Contingency Plan (NCP), which EPA promulgated pursuant to section 105 of the Comprehensive Environmental Response, Compensation, and Liability Act of 1980 (CERCLA), as amended. EPA and the Tulalip Tribes have determined that the Site poses no significant threat to public health or the environment and, therefore, no further remedial measures pursuant to CERCLA are appropriate.

EFFECTIVE DATE: September 18, 2002.

FOR FURTHER INFORMATION CONTACT: Beverly Gaines, EPA Point of Contact, U.S. Environmental Protection Agency, Region 10, 1200 Sixth Avenue, Mail Stop ECL-110, Seattle, WA 98101, (206) 553-1066.

SUPPLEMENTARY INFORMATION: The site to be deleted from the NPL is: Tulalip Landfill Site, Snohomish County, Washington.

A Notice of Intent to Delete for this site was published in the Federal Register on June 7, 2002 (67 FR 39326). The closing date for comments was July 8, 2002. EPA received two comment letters. One comment letter received by EPA was from the Department of Interior (the Department) requesting that the deletion be delayed because a study conducted last year identified that some of the osprey in the Everett Harbor vicinity were having problems with reproduction and deformities. EPA has determined that the selected remedy for Tulalip Landfill has been, and still is, protective of human health and the environment. Monitoring has demonstrated that the remediated landfill represents only a minor source of contamination to the highly industrialized Everett Harbor. The Department is in the process of conducting a new study in the Everett Harbor and is looking specifically at the osprey issue. EPA welcomes the opportunity to discuss the results of the new study and, as necessary, at ways to evaluate the problem on a larger harbor-wide basis which includes several other sources of contamination. The Tulalip Tribes (the lead Natural Resource Trustee for this site) and the National Oceanic and Atmospheric Administration remain supportive of the deletion.

The other commentor asked if EPA is changing the requirement in the Record of Decision (ROD) to maintain the selected remedy in perpetuity. EPA is not changing the requirement in the ROD to maintain the selected remedy in perpetuity. Consistent with the ROD, the Operation and Maintenance (O&M) Plan will be fully implemented at the site in perpetuity, or until EPA determines that implementation of the O&M Plan is no longer necessary. EPA has a legal commitment from Washington Waste Hauling and Recycling to conduct O&M activities for the first four years, and the Tulalip Tribes for the next 26 years. These agreements are contained in a consent decree with EPA. The need to continue O&M activities after the first 30 years will be revisited at that time. Institutional controls, including land use restrictions, groundwater use restrictions, environmental buffer zones and maintenance of an entrance sign, are in place and will continue to be implemented in perpetuity.

The same commentor also asked if EPA is confident that mechanisms for Tulalip Landfill are sufficient to ensure that perpetual care is maintained. EPA is confident that appropriate mechanisms are in place with the Tulalip Tribes to implement the ROD, including institutional controls.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede Agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: September 6, 2002.
L. John Iani,
Regional Administrator, Region 10.

For the reasons set out in the preamble, 40 CFR part 300 is amended as follows:

PART 300—[AMENDED]

1. The authority citation for part 300 continues to read as follows:

Authority: 42 U.S.C 9601-9657; 33 U.S.C. 1321(c)(2); E.O. 12777, 56 FR 54757, 3 CFR, 1991 Comp., p.351; E.O. 12580, 52 FR 2923, 3 CFR 1987 Comp., p.193.

Appendix B—[Amended]

2. Table 1 of appendix B to part 300 is amended by removing the entry for the “Tulalip Landfill” site, “Marysville, WA.”

[FR Doc. 02-23471 Filed 9-17-02; 8:45 am]

BILLING CODE 6560-50-P